DEPARTMENT OF AGRICULTURE

Office of the Secretary

Members of Performance Review Boards

AGENCY: Office of the Secretary, USDA.

ACTION: Notice.

SUMMARY: This notice announces the appointment of members of the Performance Review Boards (PRB's) for the U.S. Department of Agriculture (USDA). The USDA PRB's ensure meaningful distinctions in performance as they review Senior Executive Service (SES) performance appraisals and make recommendations to the Secretary of Agriculture, regarding final performance ratings, performance awards, salary adjustments, and Presidential Rank Awards for SES members.

DATES: Effective upon publication in the Federal Register.

FOR FURTHER INFORMATION CONTACT: Barbara Holland, Office of Human Resources Management, Executive Resources and Services Division, U.S. Department of Agriculture, 1400 Independence Avenue, SW., Washington, DC 20250, (202) 720-2101.

SUPPLEMENTARY INFORMATION: The publication of PRB membership is required by Section 4314(c)(4) of Title 5, U.S.C. The following membership list represents a standing register, from which specific PRB's will be constituted.

Acevedo, Jose J.

Aldaya, George W.

Allen, Lindsay H.

Alsop, James C.

Anderson, Curtis M.

Anderson, Byron E.

Arnette, Donald E.

Ashworth, Warren R.

Axtell, Jeanne O.

Bange, Gerald A.

Barnes, Darlene L.

Bartuska, Ann M.

Bartz, Merlin E.

Bass, Robert T.

Bell, Charles W.

Bell, Theodore O.

Betschart, Antoinette A.

Blackburn, Wilbert H.

Blackwell, Jack, A.

Blum, J. Lawrence

Bosecker, Raymond R.

Bost, Eric M.

Bosworth, Dale N.

Braasch, Sara J.

Brady, George A.

Brady, Terence M.

Braley, James H.

Brennan, Deborah L.

Brewer, John G.

Brouha, Paul

Brown, Charles S.

Bryant, Arthur Ray

Bryson, Nancy S.

Bschor, Dennis E.

Bumbary-Langston, Inga P.

Butler, Larry D.

Buxton, Dwayne R.

Cables, Rick D.

Carey, Priscilla B.

Carpenter, Barry L.

Chadwick, Kristine M.

Chambliss, Mary T.

Charbo, Lawrence Scott

Cherry, John P.

Christensen, Thomas W.

Cielo, Angel B.

Clark, Lawrence E.

Clay, William H.

Clayton, Kenneth C.

Cleaves, David A.

Clifford, John R.

Cohen, Kenneth E.

Cole, Darrell F.

Coler, Katherine Anne

Collins, Keith J.

Collins, Sarah D.

Collins, Wanda W.

Conklin, Neilson C.

Connelly, Steven A.

Conner, Charles F.

Conway, Roger K.

Conway, Thomas

Cooksie, Carolyn B.

Coombe, Richard

Cooper, George E.

Coppedge, James R.

Couvillion, Lynda A.

Cunningham, Gary L.

Dantzler, Marshall L.

Davidson Jr., Ross J.

Davis, Russell T.

Dedrick, Allen R.

Dehaven William R.

Derfler, Philip S.

Dewhurst, Stephen B.

Diaz-Soltero, Hilda

Dick, Jere L.

Diez, Jose R.

Donoghus, Linda R.

Dorr, Thomas C.

Duncan III, John P.

Dunkle, Richard L.

Eav, Bov Bang

Ebaugh, Mary L.

Eggert, Paul R.

Elias, Thomas S.

Engeljohn, Daniel L.

Epstein, Robert L.

Estill, Elizabeth

Evans, Marlane T.

Farrish, Hubert O.

Fiala, Patricia K.

Fleischman, Joyce N.

Fong, Phyllis K.

Forsgren II, Harvey L.

Fowler, Jerry L.

Frago, Douglas W.

Frost, Alberta C.

Fulton, Philip N.

Gaibler, Floyd D.

Garbarino, Joseph S.

Gause, Kathleen M.

Gelburd, Diane E.

Gipson, Chester A.

Golden, Michael L.

Golden, John

Gomez, Christopher A.

Gonzalez, Gilbert

Goodman, Linda D.

Gordh, Gordon

Grahn, David P.

Granger, Larry M.

Gray, David R.

Gray, Roy Mack

Green, Alan S.

Greene, Frank C.

Gugulis, Katherine C.

Guldin, Richard W.

Gutierrez, Paul

Haggstrom, Glenn D.

Hagy III, William F.

Hamer Jr., Hubert

Hammond, Andrew C.

Hanan, Tamara L.

Hannah, Thomas E.

Hanuschak, George A.

Harrison, Alisa

Hatch, David C.

Hawk, Gilbert R.

Hawks, William

Healy, Patricia E.

Heerwagen, David A.

Hefferan, Colien J.

Hennings, Carlos F.

Hentges, Eric J.

Hewings, Adrianna D.

Hicks, Ronald F.

Hill, Ronald W.

Hinton-Henry, Annie S.

Hobbie, Mary K.

Hobbs, Alma C.

Hoffeller, Thomas B.

Hohenstein, William G.

Holden, Ollice C.

Holladay, Jon M.

Holland, David G.

Holman, Pred Dwight

Holtrop, Joel D.

House, James E.

House, Carol C.

Hudnall Jr., William J.

Hulebak, Karen L.

Jackson, Vicki A.

Jackson, Keith D.

Jackson, Ruthie F.

Jacobs, Robert

James, William O.

Jen, Joseph

Jennings, Allen L.

Jett, Carole E.

Johnsen, Peter B.

Johnson, John A.

Johnson, Elizabeth K.

Johnson, Phyllis E.

Jordan, John P.

Kaiser, Janette S.

Kaplan, Dennis L.

Kappes, Steven M.

Kashdan, Hank

Keeney, Robert C.

Kelly, James Michael

Kimbell, Abigail R.

King, Jessie L.

King Jr., Edgar G.

Knight, Bruce I.

Knipling, Edward B.

Korcak, Ronald F.

Kronenberger Jr., Donald R.

Kugler, Daniel E.

Kuhn, Betsey A.

Lambert, Charles D.

Lange, Loren D.

Leaman, Samuel R.

Legg, Hilda G.

Leland, Arlean

Levings, Randall

Lewis, David N.

Lilja, Janice Grassmuck

Linden, Ralph A.

Lindsay, Jerome A.

Little, James R.

Lohfink, Cyrus G.

Lopez, John

Ludwig, William E.

Lugo, Ariel E.

Maczka, Carol A.

Maloney, Kathryn P.

Mangold, Robert D.

Mann, Curt J.

Manning, Gloria

Maresch, Wayne M.

Margheim, Gary A.

Marlow, Ronald L.

Martinez, Wilda H.

Masters, Barbara J.

Maupin, Gary T.

Mausbach, Maurice J.

Mazie, Sara M.

McCaskey, Patrick C.

McClanahan, Melinda L.

McDill, Norma R.

McPhail-Gray, Mary

Mendoza Jr., Martin

Messmore, Karen

Mezainis, Valdis E.

Miller, W. Kirk

Millet, Thomas W.

Milton Jr., William P.

Moore, Dale W.

Moore, Randy

Morgan, Andrea M.

Morgan, Gary J.

Morris, Craig A.

Moseley, James R.

Munno, Joanne L.

Murano, Elsa

Murano, Peter S.

Murray, Peter K.

Murrin, Suzanne M.

Narang, Sudhir K.

Nealon, John Patrick

Neruda, Michael E.

Ng, Allen

Niedermayer, Chris S.

Norbury, Frederick L.

Novak, Jon E.

Offutt, Susan E.

Onstad, Charles A.

Orr, David M.

Otto, Ralph A.

Palmisano, Anna

Parham, Gregory L.

Parker, Henry S.

Parker, Vernon B.

Patton-Mallory, Marcia

Payne, Larry R.

Penn, J.B.

Petersen, Kenneth E.

Poling, Janet A.

Prucha, John C.

Purcell, Roberta D.

Pyron, Christopher L.

Quick, Bryce R.

Quigley, Thomas M.

Rains, Michael T.

Reaves, Jimmy L.

Reed, Craig A.

Reifschneider, Donna L.

Reilly, Joseph T.

Rexroad Jr., Caird E.

Rey, Mark E.

Reynolds, James R.

Riemenschneider, Robert A.

Riggins, Judith W.

Risbrudt, Christopher D.

Roberts, Richard K.

Robinson, Barbara C.

Rockey, Sarah J.

Roussopoulos, Peter J.

Ruff, Michael D.

Rundle, Kathleen A.

Salazar, Roberto

Santiago, Perfecto R.

Scarbrough, Frank

Schaub, James D.

Sedell, James R.

Seiber, James N.

Sexton, Thomas J.

Shahin, Jessica H.

Sharp, Audrey Diane

Shea, Anthony Kevin

Shehan, Francis Robert

Sheikh, Patricia R.

Shipman, David R.

Silverman, Steven C.

Smith, Katherine R.

Smith, Cynthia J.

Smith Jr., William C.

Snow, Wendy E.

Spence, Joseph

St. John, Judith B.

Steele, W. Scott

Stokes, E. Vaughn

Stuck, Karen D.

Surina, John C.

Swacina, Linda

Swenson, Richard D.

Taitano, Dennis J.

Tanner, Steven N.

Tenny, David P.

Terpstra, A. Ellen

Thiermann, Alejandro B.

Thomas, Irving W.

Thomas, Peter Jon

Thompson, Clyde

Thompson, Robin L.

Thompson, Tommy L.

Torrey, Michael K.

Troyer, Jack G.

True, Sadhna G.

Underwood Jr., Marvin M.

Vail, Kenneth H.

Van Blargan, Richard T.

Veneman, Ann M.

Villano, David J.

Vogel, Ronald J.

Wachs, Lawrence

Walker, Larry A.

Wallace, Charles L.

Walsh, Thomas E.

Walton, Thomas M.

Waterfield, Joann

Waters, Mary

Weber, Barbara C.

Whitmore, Charles

Williams, Jerry Thomas

Williams, John W.

Witt, Timothy Blaine

Wiyatt, Steven D.

Woods, Mark R.

Worthen, Michael V.

Yates, Archie

Yonts-Shepard, Susan E.

York, Dana D.

Yost, Michael W.

Young, Michael Lee

Young, Peter

Young Jr., Robert W.

Zorn, Frances E.

Dated: October 19, 2004.
Ann M. Veneman,
Secretary.

[FR Doc. 04-23822 Filed 10-22-04; 8:45 am]

BILLING CODE 3410-06-M